DEPARTMENT OF TRANSPORTATION

Federal Aviation Administration

Notice of Request To Release Property at the Asheville Regional Airport, Fletcher, NC (AVL)

AGENCY: Federal Aviation Administration (FAA), DOT.

ACTION: Notice.

SUMMARY: The Federal Aviation Administration is requesting public comment on a request by The Greater Asheville Regional Airport Authority on behalf of the Asheville Regional Airport, to release 84.08 acres of land identified on the current “Exhibit A” as Tracts C1, C2, and C3 at the Asheville Regional Airport (AVL) from federal obligations.

DATES: Comments must be received on or before March 9, 2026.

ADDRESSES: Comments on this notice may be emailed to the FAA at the following email address: FAA/Memphis Airports District Office, Attn: Jamal R. Stovall, Lead Community Planner, Jamal.Stovall@faa.gov.

In addition, one copy of any comments submitted to the FAA must be mailed or delivered to Mr. Lew S. Bleiweis, President and CEO, Ashville Regional Airport at the following address: 61 Terminal Drive, Suite 1, Fletcher, NC 28732.

FOR FURTHER INFORMATION CONTACT: Jamal R. Stovall, Lead Community Planner, Federal Aviation Administration, Memphis Airports District Office, 2600, Thousand Oaks Boulevard, Suite 2250, Memphis, TN 38118-2482, Jamal.Stovall@faa.gov. The application may be reviewed in person at this same location, by appointment.

SUPPLEMENTARY INFORMATION: The FAA proposes to rule and invites public comment on the request to release property for disposal at the Asheville Regional Airport (AVL), 61 Terminal Drive, Suite 1 Fletcher, NC 28732, under the provisions of 49 U.S.C. 47107(h)(2). The FAA determined that the request to release property at the Asheville Regional Airport (AVL) submitted by the Sponsor meets the procedural requirements of the Federal Aviation Administration and the release of this property does not and will not impact future aviation needs at the airport. The FAA may approve the request, in whole or in part, no sooner than thirty days after the publication of this notice.

The request consists of the following:

The Greater Asheville Regional Airport Authority (GARAA), the Sponsor of the Asheville Regional Airport, requests a release of federal obligations for properties acquired with Airport Improvement Program (AIP) funding. The Sponsor wishes to release and dispose of 84.08 acres of Airport property identified on the current “Exhibit A” property map as Tracts C1, C2 & C3. The Sponsor acquired tracts Cl, C2, and C3 with grants through the Airport Improvement Program (AIP) 1991(3-37-0005-012-1991) and 1993 (3-37-0005-016-1993). This action is taken under the provisions of 49 U.S.C. 47107(h)(2).

Any person may inspect the request in person at the FAA office listed above under FOR FURTHER INFORMATION CONTACT.

In addition, any person may, upon request, inspect the request, notice and other documents germane to the request in person at the Asheville Regional Airport.

Issued in Memphis, Tennessee on February 3, 2026.
Rans D. Black,
Acting Manager, Memphis Airports District Office, Southern Region.

[FR Doc. 2026-02316 Filed 2-5-26; 8:45 am]

BILLING CODE 4910-13-P